DEPARTMENT OF AGRICULTURE

Forest Service

Glenn/Colusa County Resource Advisory Committee

AGENCY: Forest Service, USDA.

ACTION: Notice of meeting.

SUMMARY: The Glenn/Colusa County Resource Advisory Committee (RAC) will hold its second meeting.

DATES: The meeting will be held on March 7, 2002, and will begin at 1:30 p.m. until approximately 6 p.m.

ADDRESSES: The meeting will be held at the Mendocino National Forest Supervisor's Office, 825 N. Humboldt Ave., Willows, CA.

FOR FURTHER INFORMATION CONTACT: Bobbin Gaddini, Committee Coordinator, USDA, Mendocino National Forest, Grindstone Ranger District, P.O. Box 164, Elk Creek, CA 95939. (530) 968-5329; e-mail ggaddini@fs.fed.us.

SUPPLEMENTARY INFORMATION: Agenda items to be covered include: (1) Select Chairperson, (2) Operating Guidelines. (3) Recommendation and Agreement Process, (4) Forest Service Project Proposals/Opportunities w/Nepa Completed. (5) Glenn County Project Idea (6) Next Agenda and (7) Public Comment. The meeting is open to the public. Public input opportunity will be provided and individuals will have the opportunity to address the Committee at that time.

Dated: February 4, 2002.
James F. Giachino,
Designated Federal Officer.

[FR Doc. 02-3592 Filed 2-13-02; 8:45 am]

BILLING CODE 3410-11-M